DEPARTMENT OF THE TREASURY

Federal Law Enforcement Training Center

Advisory Committee to the National Center for State and Local Law Enforcement Training; Meeting

AGENCY: Federal Law Enforcement Training Center, Department of the Treasury.

ACTION: Notice of Meeting.

SUMMARY: The Advisory Committee to the National Center for State and Local Law Enforcement Training (National Center) at the Federal Law Enforcement Training Center will meet on February 26, 2003, beginning at 9 a.m. The agenda for this meeting includes remarks by the Committee Co-Chairs, Kenneth Lawson, Assistant Secretary (LE), Department of the Treasury, and Deborah Daniels, Assistant Attorney General, Office of Justice Programs, Department of Justice; update on the transition of the FLETC and the National Center from Department of the Treasury to Department of Homeland Security. This meeting is open to the public. Anyone desiring to attend the meeting must contact Reba Fischer, the Designated Federal Officer, no later than February 19, 2003, at (912) 267-2343, to arrange clearance.

ADDRESSES: Sea Palms Hotel and Resort, 5445 Frederica Road, St. Simons Island, GA.

FOR FURTHER INFORMATION CONTACT: Bruce P. Brown, Director, National Center for State and Local Law Enforcement Training, Federal Law Enforcement Training Center, Glynco, GA 31524, 912-267-2322.

Dated: January 23, 2003.
Bruce P. Brown,
Director, National Center for State and Local Law Enforcement Training.

[FR Doc. 03-2492 Filed 2-3-03; 8:45 am]

BILLING CODE 4810-32-P